DEPARTMENT OF THE INTERIOR

Bureau of Land Management

[PO4820000251]

Public Meetings of the California Desert District Advisory Council

AGENCY: Bureau of Land Management, Interior.

ACTION: Notice of public meetings.

SUMMARY: In accordance with the Federal Land Policy and Management Act of 1976 (FLPMA), and the Federal Advisory Committee Act of 1972 (FACA), the U.S. Department of the Interior, Bureau of Land Management (BLM) California Desert District Advisory Council (Council) will meet as indicated below.

DATES: The Council will participate in a field tour on March 28, 2025, and a meeting on March 29, 2025; participate in a field tour on July 11, 2025, and a meeting on July 12, 2025; and participate in a field tour on November 14, 2025, and a meeting on November 15, 2025. The field tours and meetings will be from 9 a.m. to 3 p.m. Pacific Time and virtual participation options will be available for the meetings. If weather or other circumstances arise, the meetings may be held virtually via Zoom and the field tours may not occur.

ADDRESSES: The meetings will be held, and the field tours will commence and conclude at the BLM California Desert District Office, 1201 Bird Center Drive, Palm Springs, CA 92262.

FOR FURTHER INFORMATION CONTACT: Kate Miyamoto, BLM California Desert District Office; telephone: 760-883-8528, email: kmiyamoto@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council provides recommendations to the Secretary of the Interior concerning the planning and management of public land resources in the BLM's California Desert District and offers advice on implementing the comprehensive, long-range plan for management, use, development, and protection of the public lands within the California Desert Conservation Area. The March field tour will be to sites within the Barstow Field Office. Agenda topics for the March meeting may include a presentation on the Barstow Field Office business plan, a presentation from the U.S. Forest Service on the San Bernardino National Forest fee proposal, a presentation on the wild horse and burro program in the Ridgecrest Field Office, and overviews from the district and field offices and fire program. The July field tour will be to sites within the Needles Field Office. Agenda topics for the July meeting may include presentations on the McCain Valley Resource Conservation Area and Imperial Sand Dunes Recreation Area operations, and overviews from the district and field offices and fire program. The November field tour will be to sites within the Ridgecrest Field Office. Agenda topics for the November meeting may include presentations on the Dos Palmas Preserve and Santa Rosa and San Jacinto National Monument, and overviews from the district and field offices and fire program.

Members of the public are welcome on field tours but must provide their own transportation and meals and register to attend 7 days in advance. Final agendas, virtual meeting registration, and field tour registration information will be posted on the BLM web page 15 days in advance at: https://www.blm.gov/get-involved/rac/california/california-desert-district.

All Council meetings are open to the public and a public comment period will be offered each meeting day. Written comments for the Council may be sent electronically in advance of the meetings to Public Affairs Officer Kate Miyamoto at kmiyamoto@blm.gov or in writing to BLM California Desert District/Public Affairs, 1201 Bird Center Drive, Palm Springs, CA 92262. Written comments will also be accepted at the time of the public meeting.

Before including your address, phone number, email address, or other personal identifying information in your comment, be aware that your entire comment—including your personal identifying information—may be made publicly available at any time. While you can ask us in your comment to withhold your personal identifying information from public review, we cannot guarantee that we will be able to do so.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

(Authority: 43 CFR 1784.4-2)

Michelle Lynch,
California Desert District Manager.

[FR Doc. 2025-00155 Filed 1-7-25; 8:45 am]

BILLING CODE 4331-15-P